OFFICE OF THE UNITED STATES TRADE REPRESENTATIVE

Reallocation of Unused Fiscal Year 2017 Tariff-Rate Quota Volume for Raw Cane Sugar

AGENCY: Office of the United States Trade Representative.

ACTION: Notice.

SUMMARY: The Office of the United States Trade Representative (USTR) is providing notice of country-by-country reallocations of the fiscal year (FY) 2017 in-quota quantity of the World Trade Organization (WTO) tariff-rate quota (TRQ) for imported raw cane sugar.

DATES: This notice is applicable on August 2, 2017.

FOR FURTHER INFORMATION CONTACT: Ronald Baumgarten, Office of Agricultural Affairs, (202) 395-9583 or Ronald_Baumgarten@ustr.eop.gov.

SUPPLEMENTARY INFORMATION: Pursuant to Additional U.S. Note 5 to Chapter 17 of the Harmonized Tariff Schedule of the United States (HTS), the United States maintains WTO TRQs for imports of raw cane and refined sugar.

Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007, January 4, 1995).

On May 6, 2016 (81 FR 27390), the Secretary of Agriculture established the FY2017 WTO TRQ for imported raw cane sugar at the minimum to which the United States is committed pursuant to the WTO Uruguay Round Agreements (1,117,195 metric tons raw value (MTRV) conversion factor: 1 metric ton = 1.10231125 short tons.). On May 27, 2016 (81 FR 33729), USTR provided notice of country-by-country allocations of the FY2017 in-quota quantity of the WTO TRQ for imported raw cane sugar. Based on consultation with quota holders, USTR is reallocating 86,495 MTRV of the original TRQ quantity from those countries that are unable to fill their FY2017 allocated raw cane sugar quantities. USTR is allocating the 86,495 MTRV to the following countries in the amounts specified below:

Country | FY 2017 raw cane sugar unused reallocation (MTRV)
Argentina | 4,756
Australia | 9,180
Belize | 1,217
Brazil | 16,038
Colombia | 2,655
Costa Rica | 1,659
Ecuador | 1,217
El Salvador | 2,876
Fiji | 995
Guatemala | 5,309
Guyana | 1,327
Honduras | 1,106
India | 885
Jamaica | 1,217
Malawi | 1,106
Mauritius | 1,327
Mozambique | 1,438
Nicaragua | 2,323
Panama | 3,208
Peru | 4,535
Philippines | 14,932
South Africa | 2,544
Swaziland | 1,770
Thailand | 1,548
Zimbabwe | 1,327

USTR based these allocations on the countries' historical shipments to the United States. The allocations of the raw cane sugar WTO TRQ to countries that are net importers of sugar are conditioned on receipt of the appropriate verifications of origin. Certificates for quota eligibility must accompany imports from any country for which an allocation has been provided.

Sharon E. Bomer Lauritsen,
Assistant U.S. Trade Representative, Agricultural Affairs and Commodity Policy.

[FR Doc. 2017-16289 Filed 7-31-17; 11:15 am]

BILLING CODE 3290-F7-P